DEPARTMENT OF THE INTERIOR

National Park Service

[NPS-WASO-CONC-11525; 2410-OYC]

Notice of Continuation of Visitor Services

AGENCY: National Park Service, Interior.

ACTION: Notice.

SUMMARY: Pursuant to the terms of existing concession contracts, public notice is hereby given that the National Park Service intends to request a continuation of visitor services for the periods specified below.

DATES: Effective Date: January 1, 2013.

FOR FURTHER INFORMATION CONTACT: Jo A. Pendry, Chief, Commercial Services Program, National Park Service, 1201 Eye Street NW., 11th Floor, Washington, DC, 20005; telephone (202) 513-7156.

SUPPLEMENTARY INFORMATION: The contracts listed below have been extended to the maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

NACC001-89 | Golf Course Specialists, Inc | National Capital Park—Central.
NACC003-86 | Guest Services, Inc | National Capital Park—Central.
GATE003-98 | Marinas of the Future, Inc | Gateway National Recreation Area.
LAKE001-73 | Rex G. Maughan & Ruth G. Maughan | Lake Mead National Recreation Area.
LAKE002-82 | Lake Mead RV Village, LLC | Lake Mead National Recreation Area.
LAKE005-97 | Rex G. Maughan | Lake Mead National Recreation Area.
LAKE006-74 | Las Vegas Boat Harbor, Inc | Lake Mead National Recreation Area.
LAKE009-88 | Temple Bar Marina, LLC | Lake Mead National Recreation Area.
CACH001-84 | White Dove, Inc. dba Thunderbird Lodge | Canyon de Chelly National Monument.
GLAC002-81 | Glacier Park, Inc | Glacier National Park.
GLCA002-88 | ARAMARK | Glen Canyon National Recreation Area.
GLCA003-69 | ARAMARK | Glen Canyon National Recreation Area.
GRTE004-98 | Louise M. and Harold M. Bertschy dba Triangle X Ranch | Grand Teton National Park.
MEVE001-82 | ARAMARK Mesa Verde Company, Inc | Mesa Verde National Park.
PEFO001-85 | Xanterra Parks & Resorts, LLC | Petrified Forest National Park.
OZAR012-88 | Akers Ferry Canoe Rental, Inc | Ozark National Scenic Riverways.
BLRI001-93 | Southern Highland Handicraft Guild | Blue Ridge Parkway.
BLRI002-83 | Northwest Trading Post, Inc | Blue Ridge Parkway.
CAHA001-98 | Avon-Thornton Limited Partnership | Cape Hatteras National Seashore.
CAHA004-98 | Oregon Inlet Fishing Center, Inc | Cape Hatteras National Seashore.
MACA002-82 | Forever NPC Resorts, LLC | Mammoth Cave National Park.
VIIS001-71 | CBI Acquisitions, Inc | Virgin Islands National Park.

Under the provisions of current concession contracts and pending the completion of the public solicitation of a prospectus for a new concession contract, the National Park Service authorizes continuation of visitor services for the contract below for a period not-to-exceed 2 years under the terms and conditions of the current contract as amended. The continuation of operations does not affect any rights with respect to selection for award of a new concession contract.

INDE001-94 | Concepts by Staib, Ltd | Independence National Historical Park.

Dated: October 26, 2012.
Lena McDowall,
Associate Director, Business Services.

[FR Doc. 2012-29185 Filed 12-3-12; 8:45 am]

BILLING CODE 4312-53-P